DEPARTMENT OF AGRICULTURE

Animal and Plant Health Inspection Service

9 CFR Part 2

[Docket No. APHIS-2006-0159]

RIN 0579-AC69

Handling of Animals; Contingency Plans; Stay of Regulations

AGENCY: Animal and Plant Health Inspection Service, USDA.

ACTION: Final rule; stay of regulations.

SUMMARY: On December 31, 2012, we published a final rule establishing regulations under which research facilities and dealers, exhibitors, intermediate handlers, and carriers must meet certain requirements for contingency planning and training of personnel. In this document, we are issuing a stay of those regulations in order that we may undertake a review of their requirements.

DATES: Effective July 31, 2013, 9 CFR 2.38(l) and 2.134 are stayed indefinitely.

FOR FURTHER INFORMATION CONTACT: Dr. Johanna “Jeleen” Briscoe, Veterinary Medical Officer, Animal Care, APHIS, 4700 River Road Unit 84, Riverdale, MD 20737-1234; (301) 851-3726.

SUPPLEMENTARY INFORMATION: On December 31, 2012, we published a final rule (77 FR 76814-76824) establishing regulations under which research facilities and dealers, exhibitors, intermediate handlers, and carriers must meet certain requirements for contingency planning and training of personnel. In this document, we are issuing a stay of those regulations in order that we may undertake a review and analysis of such requirements. We intend to conduct this additional review to further consider the impact of contingency plan requirements on regulated entities, taking into account a reexamination of any unique circumstances and costs that may vary by the type and size of businesses.

Authority: 7 U.S.C. 2131-2159; 7 CFR 2.22, 2.80, and 371.7.

Done in Washington, DC, this 29th day of July 2013.
Kevin Shea,
Administrator, Animal and Plant Health Inspection Service.

[FR Doc. 2013-18524 Filed 7-30-13; 8:45 am]

BILLING CODE 3410-34-P